DEPARTMENT OF ENERGY

Federal Energy Regulatory Commission

[Docket Nos. RP00-332-000, RP00-597-000, and RP00-597-001]

ANR Pipeline Company; Notice of Technical Conference

March 20, 2001.

On June 15, 2000, ANR Pipeline Company (ANR) filed in compliance with Order No. 637. A technical conference to discuss the various issues raised by ANR's filing was held on September 20, 2000, October 4, 2000, November 15, 2000, January 11, 2001, and February 6, 2001.

Take notice that an additional session of the technical conference will be held Wednesday, April 4, 2001, beginning at 11 a.m. in a room to be designated at the offices of the Federal Energy Regulatory Commission, 888 First Street, NW., Washington, DC 20426.

Persons who wish to participate by telephone may call 1-888-658-8648 at 11 a.m. Please tell the operator that you wish to participate in Katherine Waldbauer's conference call, and the passcode is WALDBAUER

All interested persons and Staff are permitted to attend.

David P. Boergers,
Secretary.

[FR Doc. 01-7366 Filed 3-23-01; 8:45 am]

BILLING CODE 6717-01-M